DEPARTMENT OF LABOR

Occupational Safety and Health Administration

[Docket No. ICR1218-0227(2000)]

Trucks Used Underground to Transport Explosives—Inspection Record; Extension of the Office of Management and Budget's (OMB) Approval of Information Collection (Paperwork) Requirements

AGENCY: Occupational Safety and Health Administration (OSHA); Labor.

ACTION: Notice of an opportunity for public comment.

SUMMARY: OSHA solicits comments concerning the extension of the information collection requirements contained in the standard on Trucks Used Underground to Transport Explosives (29 CFR 1926.903(e))—Inspection Certification.

The Agency is particularly interested in comments on the following:

• Whether the information collection requirements are necessary for the proper performance of the Agency's functions, including whether the information is useful;

• The accuracy of the Agency's estimate of the burden (time and costs) of the information collection requirements, including the validity of the methodology and assumptions used;

• The quality, utility, and clarity of the information collected; and

• Ways to minimize the burden on employers who must comply, for example, by using automated, electronic, mechanical, and other technological information and transmission collection techniques.

DATES: Submit written comments on or before May 22, 2000.

ADDRESSES: Submit comments to the Docket Office, Docket No. ICR1218-0227(2000), Occupational Safety and Health Administration, U.S. Department of Labor, Room N-2625, 200 Constitution Avenue, NW., Washington, DC 20210; telephone: (202) 693-2350. You may transmit written comments 10 pages or less in length by facsimile to (202) 693-1648.

FOR FURTHER INFORMATION CONTACT: Kathleen Martinez, Directorate of Policy, Occupational Safety and Health Administration, U.S. Department of Labor, Room N-3605, 200 Constitution Avenue, NW., Washington, DC 20210; telephone: (202) 693-2444. A copy of the Agency's Information Collection Request (ICR) supporting the need for the information collection requirements on Trucks used Underground to Transport Explosives—Inspection Certification is available for inspection and copying in the Docket Office, or you may request a mailed copy by telephoning Kathleen Martinez at (202) 693-2444 or Todd Owen at (202) 693-2444. For electronic copies of the ICR on Trucks used Underground to Transport Explosives—Inspection Certification, contact OSHA on the Internet at http://www.osha-slc.gov.

SUPPLEMENTARY INFORMATION:

I. Background

The Department of Labor, as part of its continuing effort to reduce paperwork and respondent burden, conducts a preclearance consultation program to provide the general public and Federal agencies with an opportunity to comment on proposed and continuing information collection requirements in accordance with the Paperwork Reduction Act of 1995 (PRA-95) (44 U.S.C. 3506(c)(2)(A)). This program ensures that information is in the desired format, reporting burden (time and costs) is minimal, collection instruments clearly understood, and the impact of information collection requirements on respondents properly assessed. The Occupational Safety and Health Act of 1 970 (the Act) authorizes information collection by employers as necessary or appropriate for enforcement of the Act or for developing information regarding the causes and prevention of occupational injuries, illnesses, and accidents (29 U.S.C. 657).

II. Proposed Action

The inspection certification required in 29 CFR 1926.903(e) is necessary to assure compliance with the requirement for inspection of the electrical system in trucks used for the underground transportation of explosives. The inspection assures that the truck have a weekly maintenance check of the electrical system to detect any failures which may constitute an electrical hazard. Employers must prepare and retain a certification record of the inspection.

OSHA will summarize the comments submitted in response to this notice, and will include this summary in the request to OMB to extend the approval of the information collection requirements contained in the Truck used Underground to Transport Explosives—Inspection Certification (29 CFR 1926.903(e)).

Type of Review: Extension of currently approved information collection requirements.

Agency: Occupational Safety and Health Administration.

Title: Trucks used Underground to Transport Explosives—Inspection Certification (29 CFR 1926.903(e)).

OMB Number: 1218-0227.

Affected Public: Business or other for-profit; Federal government; state, local or tribal government.

Number of Respondents: 1.

Frequency: Weekly.

Average Time per Response: 10 minutes.

Estimated Total Burden Hours: 9 hours.

III. Authority and Signature

Charles N. Jeffress, Assistant Secretary of Labor for Occupational Safety and Health, directed the preparation of this notice. The authority for this notice is the Paperwork Reduction Act of 1995 (44 U.S.C. 3506), Secretary of Labor's Order No. 6-96 (62 FR 111), and 29 CFR part 11.

Signed at Washington, DC, this 17th day of March 2000.
Charles N. Jeffress,
Assistant Secretary of Labor.

[FR Doc. 00-7137 Filed 3-22-00; 8:45 am]

BILLING CODE 4510-26-M